DEPARTMENT OF HEALTH AND HUMAN SERVICES

Food and Drug Administration

[Docket No. 2006F-0409]

Safe Foods Corporation; Filing of Food Additive Petition

AGENCY: Food and Drug Administration, HHS.

ACTION: Notice.

SUMMARY: The Food and Drug Administration (FDA) is announcing that Safe Foods Corporation has filed a petition proposing that the food additive regulations be amended to expand the conditions for the safe use of cetylpyridinium chloride as an antimicrobial agent in a pre-chiller or post-chiller solution for application to raw poultry carcasses.

DATES: Submit written or electronic comments on the petitioner's environmental assessment by November 24, 2006.

ADDRESSES: Submit written comments to the Division of Dockets Management (HFA-305), Food and Drug Administration, 5630 Fishers Lane, rm. 1061, Rockville, MD 20852. Submit electronic comments to http://www.fda.gov/dockets/ecomments.

FOR FURTHER INFORMATION CONTACT: Raphael Davy, Center for Food Safety and Applied Nutrition (HFS-265), Food and Drug Administration, 5100 Paint Branch Pkwy., College Park, MD 20740, 301-436-1272.

SUPPLEMENTARY INFORMATION: Under the Federal Food, Drug, and Cosmetic Act (section 409(b)(5) (21 U.S.C. 348(b)(5))), notice is given that a food additive petition (FAP 6A4767) has been filed by Safe Foods Corporation, c/o Keller and Heckman LLP, 1001 G St. NW., suite 500 West, Washington, D.C. 20001. The petition proposes to amend the food additive regulations in § 173.375 Cetylpyridinium chloride (21 CFR 173.375) to expand the conditions for the safe use of cetylpyridinium chloride as an antimicrobial agent in a pre-chiller or post-chiller solution for application to raw poultry carcasses.

The potential environmental impact of this action is being reviewed. To encourage public participation consistent with regulations issued under the National Environmental Policy Act (40 CFR 1501.4(b)), the agency is placing the environmental assessment submitted with the petition that is the subject of this notice on public display at the Division of Dockets Management (see ADDRESSES) for public review and comment. Interested persons may submit to the Division of Dockets Management written or electronic comments by (see DATES). Two copies of any written comments are to be submitted, except that individuals may submit one copy. Comments are to be identified with the docket number found in brackets in the heading of this document. Received comments may be seen in the Division of Dockets Management between 9 a.m. and 4 p.m., Monday through Friday. FDA will also place on public display any amendments to, or comments on, the petitioner's environmental assessment without further announcement in the Federal Register. If, based on its review, the agency finds that an environmental impact statement is not required, and this petition results in a regulation, the notice of availability of the agency's finding of no significant impact and the evidence supporting that finding will be published with the regulation in the Federal Register in accordance with 21 CFR 25.51(b).

Dated: October 17, 2006.
Laura M. Tarantino,
Director, Office of Food Additive Safety, Center for Food Safety and Applied Nutrition.

[FR Doc. E6-17834 Filed 10-24-06; 8:45 am]

BILLING CODE 4160-01-S